DEPARTMENT OF TRANSPORTATION

Federal Highway Administration

Rescinding the Notice of Intent for an Environmental Impact Statement (EIS): 14th Street Bridge Corridor, Arlington County, Virginia and Washington, DC

AGENCY: Federal Highway Administration (FHWA), DOT.

ACTION: Rescind Notice of Intent to prepare an EIS.

SUMMARY: The FHWA is issuing this notice to advise the public that the Notice of Intent (NOI) for the preparation of an Environmental Impact Statement to study ways to reduce congestion, enhance safety, and improve traffic operation in the 14th Street Bridge Corridor (Interstate 395) is being rescinded. The NOI was published in the Federal Register on July 18, 2006. A draft EIS was released in January 2012. This rescission is based on a lack of available funding for the full corridor proposals and has led to identification of numerous individual projects of independent utility.

FOR FURTHER INFORMATION CONTACT: Kurt Dowden, Chief of Business Operations, Eastern Federal Lands Highway Division, FHWA, 21400 Ridgetop Circle, Sterling, VA 20166, Telephone (571) 434-1598

SUPPLEMENTARY INFORMATION: The FHWA in cooperation with the District of Columbia Department of Transportation (DDOT), Virginia Department of Transportation (VDOT), Arlington County, U.S. Department of Defense and National Park Service initiated preparation of an EIS to study actions/alternatives to reduce congestion, enhance safety, and improve traffic operations in the 14th Street Bridge Corridor of Interstate 395. The study limits were generally between South Capitol Street in DC and Arlington Ridge Road in Arlington County, VA. The NOI was noticed in the Federal Register on July 18, 2006.

The NOI for this EIS is being rescinded due to funding restraints that have led to a reduced set of separate projects with independent utility. Several of the proposed separate projects would today likely qualify as Categorical Exclusions. Anticipated funding for several of the proposed actions/alternatives could be provided by DDOT and VDOT but they have yet to do so. Comments or questions concerning the rescission of this NOI and the EIS should be directed to the FHWA at the address provided above.

Authority: [23 U.S.C. 315; 49 CFR 1.48 rescind].

Issued on: January 31, 2018.
Kurt Dowden,
Chief of Business Operations, Eastern Federal Lands Highway Division, FHWA.

[FR Doc. 2018-02605 Filed 2-8-18; 8:45 am]

BILLING CODE 4910-22-P